Proclamation 9053 of October 31, 2013

National Family Caregivers Month, 2013

By the President of the United States of America

A Proclamation

Across our country, more than 60 million Americans take up the selfless and unheralded work of delivering care to seniors or people with disabilities or illnesses. The role they play in our healthcare system is one we must recognize and support. During National Family Caregivers Month, we thank these tireless heroes for the long, challenging work they perform behind closed doors and without fanfare every day, and we recommit to ensuring the well-being of their loved ones and of the caregivers themselves.

Under the Affordable Care Act, patients and caregivers can benefit from a new Medicare pilot program that helps beneficiaries negotiate the transition from hospital to home. And through new Medicaid options, States can expand access to home and community-based services. With caregivers already balancing their own needs with those of their loved ones, and in many cases caring for both young children and aging parents, our Nation's caregivers need and deserve our support. With this in mind, local agencies work to connect individuals with options including adult day care, respite care, training programs, and caregiver support groups—all shaped with the understanding that the generous women and men who take the health of their loved ones into their hands should not suffer from the toll caregiving can take.

There is no one to whom America owes more than our ill and injured service members and veterans, and while many offer kindness and assistance, it is the caregivers who truly sustain our wounded warriors as they work toward rehabilitation or recovery. In 2010, I was proud to sign the Caregivers and Veterans Omnibus Health Services Act, which provides the caregivers of our seriously injured post-9/11 veterans with training, counseling, supportive services, and living stipends. Under this law, injured veterans' family caregivers also receive access to health care.

Just as our loved ones celebrate with us in our moments of triumph, American families strengthen the fabric of our Nation by lifting each other up in the face of life's greatest challenges. And as Americans put their loved ones before themselves, we must offer our appreciation and flexibility, in our healthcare system, our workplaces, and our communities. This month, as we reflect on the generosity, grace, and strength of family caregivers, we renew our commitment to matching their dedication to the health and wellness of families across our country.

NOW, THEREFORE, I, BARACK OBAMA, President of the United States of America, by virtue of the authority vested in me by the Constitution and the laws of the United States, do hereby proclaim November 2013 as National Family Caregivers Month. I encourage all Americans to pay tribute to those who provide for the health and well-being of their family members, friends, and neighbors.

IN WITNESS WHEREOF, I have hereunto set my hand this thirty-first day of October, in the year of our Lord two thousand thirteen, and of the Independence of the United States of America the two hundred and thirty-eighth.

[FR Doc. 2013-26675

Filed 11-4-13; 11:15 am]

Billing code 3295-F4